DEPARTMENT OF AGRICULTURE

Agricultural Marketing Service

[Doc. No. AMS-NOP-23-0052]

Notice of Request To Extend and Revise a Previously Approved Information Collection

AGENCY: Agricultural Marketing Service, USDA.

ACTION: Notice and request for comments.

SUMMARY: In accordance with the Paperwork Reduction Act of 1995, this notice announces the Agricultural Marketing Service's (AMS) intention to request an extension and revision of a previously approved information collection titled “National Organic Program” (OMB Control Number: 0581-0191).

DATES: Comments on this notice must be received by January 22, 2024 to be assured of consideration.

ADDRESSES: Interested persons are invited to submit comments by using the electronic process available at https://www.regulations.gov. All comments should reference the docket number, date and page number of this issue of the Federal Register. All comments received will be posted without change, including any personal information provided, at https://www.regulations.gov and will be included in the record and made available to the public. Please do not include personally identifiable information (such as name, address, or other contact information) or confidential business information that you do not want publicly disclosed. Comments may be submitted anonymously.

FOR FURTHER INFORMATION CONTACT: Erin Healy, Director, Standards Division, National Organic Program, Phone: (202) 720-3252; Email: erin.healy@usda.gov.

SUPPLEMENTARY INFORMATION:

Title: National Organic Program.

OMB Control Number: 0581-0191.

Expiration Date of Current Approval: March 31, 2024.

Type of Request: Notice of intent to extend and revise a previously approved information collection for three years.

Abstract: AMS is requesting that the Office of Management and Budget (OMB) extend the approval for the currently approved information collection, “National Organic Program,” OMB Control Number 0581-0191 for another three years past its existing expiration date of March 31, 2024. AMS is also requesting OMB approval of revisions made to this information collection. AMS is requesting the revision and extension of this previously approved information collection, to fully implement the “National Organic Program” (NOP).

The Organic Foods Production Act of 1990 (OFPA), as amended (7 U.S.C. 6501-6524), authorized the Secretary of Agriculture to establish the National Organic Program (NOP) and accredit certifying agents to certify that farms and businesses meet national organic standards. Under OFPA, the purpose of the NOP is to: (1) establish national standards governing the marketing of certain agricultural products as organically produced products; (2) assure consumers that organically produced products meet a consistent standard; and (3) facilitate interstate commerce in fresh and processed food that is organically produced (7 U.S.C. 6501). Since AMS published the first USDA organic regulations (7 CFR part 205, 65 FR 80548, Dec 21, 2000), the information collected (under OMB Control No. 0581-0191) has been used at the Federal level (by AMS) to evaluate the compliance of organically produced products around the world, evaluate the effectiveness of the program, and to inform program management decisions and policy changes. AMS requests that the approval of this information collection be extended another three years. If this information is not collected, AMS's ability to carry out the mandates of OFPA through the NOP will be greatly diminished.

Respondents to this information collection include operations seeking or maintaining USDA organic certification, accredited certifying agents and their inspectors, and State and foreign program officials. This collected information is used by accredited certifying agents and their inspectors, State and foreign program officials, and AMS. Respondents to this information collection also includes entities seeking certifying agent accreditation, members of the public petitioning a change to the USDA organic regulations National List of Allowed and Prohibited Substances (7 CFR 205.600-607), and members of the public submitting allegations of fraudulent organic activities (complaints). This collected information is used by AMS.

In addition to generic descriptions of information to be collected (described in the USDA organic regulations, 7 CFR part 205), the National Organic Program information collection includes three forms: (1) TM-10CG, Application for Accreditation; (2) TM-11, Export Certificate; and (3) NOP 2110-1, NOP Import Certificate.

In this renewal, AMS intends to revise the explanatory/instructional text in form TM-10CG, Application for Accreditation. The existing form repeats language that is codified in the USDA organic regulations (7 CFR part 205). AMS plans to remove this redundant language and replace the instructions with references to relevant sections of the USDA organic regulations. AMS also plans to revise the form to clarify when information is to be submitted to AMS to reduce or eliminate the resubmission of duplicate information from certifying agents renewing their accreditation. The TM-10CG, Application for Accreditation, will be revised and submitted to OMB after the public comment period for this notice has closed. AMS is not planning any changes to TM-11, Export Certificate, at this time. At a later date, AMS plans to revise NOP 2110-1, NOP Import Certificate, due to recent rulemaking (Strengthening Organic Enforcement, 88 FR 3548, Jan 19, 2023).

AMS is also revising the National Organic Program information collection to include estimates of paperwork burdens related to the five-year Transition to Organic Partnership Program and the NOP Online Complaint Portal.

The National Organic Program, on behalf of AMS, is responsible for facilitating the Transition to Organic Partnership Program portion of the USDA Organic Transition Initiative (Press Release No. 0181.22, August 22, 2022). AMS revised the paperwork burden estimate for the National Organic Program information collection to include participant applications. Through the Transition to Organic Partnership Program, the USDA ensures that operations (farmers) transitioning to organic production have the support and resources needed to navigate that transition. Respondents to the Transition to Organic Partnership Program are operations (e.g., farmers) seeking to transition their agricultural operation to USDA certified organic production, operations looking to expand their existing USDA certified organic operation and/or acreage, and existing USDA certified organic operations looking to serve in a mentorship role to the above listed respondents. AMS and Transition to Organic Partnership Program cooperators use this information to build a partnership network across six regions of the United States, with the purpose of connecting transitioning operations (mentees) with mentors, and to help with technical assistance events and resource material content development.

Administrative investigations are exempt from the Paperwork Reduction Act requirements [44 U.S.C. 3518(c)(1)(B)(ii)]. Therefore, information regarding the submission of complaints has not previously been included in the National Organic Program information collection. However, AMS recognizes that respondents wishing to stay anonymous go to greater lengths to preserve their anonymity. To reduce the burden on these voluntary submissions, AMS created the NOP Online Complaint Portal. Since personally identifiable information is collected from non-anonymous respondents in this portal, AMS revised the National Organic Program information collection to include these respondents. These respondents are members of the public who voluntarily submit allegations of fraudulent organic activities (complaints) using the new NOP Online Complaint Portal. Complaints have historically been received and investigated by AMS since the publication of the first USDA organic regulations (7 CFR part 205, 65 FR 80548, Dec 21, 2000). As always, the public may submit complaints how they wish, using mail, fax, phone, email, or now—the NOP Online Complaint Portal. This collected information is used by AMS to initiate administrative investigations. Additional information requests associated with AMS following up on these complaints are not discussed here, as administrative investigations are exempt from the Paperwork Reduction Act requirements [44 U.S.C. 3518(c)(1)(B)(ii)].

At a later date, AMS will update the information collection to describe revisions to the Organic Integrity Database (INTEGRITY) due to recent rulemaking (Strengthening Organic Enforcement, 88 FR 3548, Jan 19, 2023).

Estimate of Burden: The total annual hours requested for this information collection is 3,382,459 hours. This estimated burden includes time needed for participant education; record creation and administration; and preparation, review, and submission of reports. Respondents include producers and handlers of certified and exempt organic products, organic inspectors, certifying agents, State governments, petitioners, complainants, and participants in the Transition to Organic Partnership Program.

Estimated Number of Respondents: 55,285 respondents.

Estimated Number of Responses per Respondent: 5.2 responses per respondent.

Estimated Burden per Response: 11.8 hours.

Estimated Total Annual Burden on Respondents: 3,382,459 hours.

Comments are invited on: Revisions being made to “National Organic Program,” (OMB Control Number 0581-0191) to (1) revise the explanatory/instructional text in form TM-10CG, (2) include the Transition to Organic Partnership Program, and (3) include the NOP Online Complaint Portal. Comments are also invited on: (i) whether the proposed collection of information is necessary for the proper performance of the functions of the agency, including whether the information shall have practical utility; (ii) the accuracy of the agency's estimate of the burden of the proposed collection of information; (iii) ways to enhance the quality, utility, and clarity of the information to be collected; and (iv) ways to minimize the burden of the collection of information on those who are to respond, including through the use of automated collection techniques or other forms of information technology. For access to the docket to read background documents (such as the spreadsheet used to estimate burden) or comments received, go to https://www.regulations.gov and search for Docket ID “AMS-NOP-23-0052.”

All responses to this notice will be summarized in a Supporting Statement and included in the request to OMB for approval. All comments will become a matter of public record.

A copy of the information collection and related documents may be obtained free of charge by contacting the Agency as directed above in section FOR FURTHER INFORMATION CONTACT.

Erin Morris,
Associate Administrator, Agricultural Marketing Service.

[FR Doc. 2023-25726 Filed 11-20-23; 8:45 am]

BILLING CODE 3410-02-P